DEPARTMENT OF ENERGY

Federal Energy Regulatory Commission

[Docket No. PF10-20-000]

Sawgrass Storage LLC; Supplemental Notice of Intent To Prepare an Environmental Assessment for the Planned Sawgrass Storage Project and Request for Comments on Environmental Issues

As previously noticed on August 6, 2010, and supplemented herein, the staff of the Federal Energy Regulatory Commission (FERC or Commission) is preparing an environmental assessment (EA) that will discuss the environmental impacts that could result from the construction and operation of the Sawgrass Storage Project. The project is planned by Sawgrass Storage LLC (Sawgrass) to provide flexible storage services on various interstate and intrastate pipeline systems, and provide supplemental natural gas supply during periods of peak natural gas usage. The project would be located in Lincoln and Union Parishes, Louisiana. This EA will be used by the Commission in its decision-making process to determine whether the project is in the public convenience and necessity.

This Supplemental Notice of Intent (NOI) announces the opening of an additional scoping period the Commission will use to gather input from the public and interested agencies on the revised project. Specifically, Sawgrass has revised its project to eliminate approximately 20.5 miles of pipeline, a second compressor station, 8 pipeline interconnects, and 3 mainline valves, which were included in its original project design. Your input on the revised project will help determine what issues need to be evaluated in the EA. Please note that this additional scoping period will close on June 6, 2011.

This notice is being sent to the Commission's current environmental mailing list for this project. The mailing list includes landowners who would be affected by Sawgrass' revised project and those that would no longer be affected by the reduced project facilities. State and local government representatives are asked to notify their constituents of the new planned project and encourage them to comment on their areas of concern.

If you are a landowner receiving this notice, you may be contacted by a pipeline company representative about the acquisition of an easement to construct, operate, and maintain the planned facilities. The company would seek to negotiate a mutually acceptable agreement. However, if the project is approved by the Commission, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (http://www.ferc.gov). This fact sheet addresses a number of typically-asked questions, including the use of eminent domain and how to participate in the Commission's proceedings.

Summary of the Planned Project

Sawgrass plans to request authorization to construct and operate an underground natural gas storage facility with a working gas capacity of 30 billion cubic feet.

The Sawgrass Storage Project would now consist of the following facilities:

• A storage reservoir in a depleted gas production field;

• 5 wellpads with up to 16 horizontally drilled wells;

• 5 observation wells;

• Approximately 5.5 miles of 20- and 24-inch-diameter gathering pipeline;

• A compressor station with approximately 19,000 horsepower of compression;

• Approximately 13.8 miles of 30-inch-diameter mainline pipeline;

• 2 mainline valves;

• An interconnect with the existing Midcontinent Express Pipeline interstate pipeline system; and

• Appurtenant facilities.

Sawgrass' proposed storage field would essentially remain the same as originally proposed, along with the first approximately 10 miles of 30-inch-diameter mainline pipeline. There is approximately 3.8 miles of additional 30-inch-diameter pipeline that was re-routed from the original alignment and would affect new landowners. Sawgrass has eliminated approximately 13.7 miles of 30-inch-diameter mainline pipeline, both 24-inch-diameter header pipelines, and the second compressor station located along the 24-inch-diameter header pipeline.

The general location of the project facilities is shown in appendix 1.¹

¹ The appendices referenced in this notice are not being printed in the Federal Register. Copies of appendices were sent to all those receiving this notice in the mail and are available at http://www.ferc.gov using the link called “eLibrary” or from the Commission's Public Reference Room, 888 First Street, NE., Washington, DC 20426, or call (202) 502-8371. For instructions on connecting to eLibrary, refer to the last page of this notice.

Land Requirements for Construction

Construction of the planned facilities would disturb about 409.4 acres of land for the aboveground facilities and the pipelines. Following construction, about 156.1 acres would be maintained for permanent operation of the project's facilities; the remaining acreage would be restored and allowed to revert to former uses.

The EA Process

The National Environmental Policy Act (NEPA) requires the Commission to take into account the environmental impacts that could result from an action whenever it considers the issuance of a Certificate of Public Convenience and Necessity. NEPA also requires us ² to discover and address concerns the public may have about proposals. This process is referred to as “scoping.” The main goal of the scoping process is to focus the analysis in the EA on the important environmental issues. By this supplemental NOI, the Commission requests public comments on the scope of the issues to address in the EA regarding the revised project. All comments received will be considered during the preparation of the EA.

² “We”, “us”, and “our” refer to the environmental staff of the Commission's Office of Energy Projects.

In the EA we will discuss impacts that could occur as a result of the construction and operation of the planned project under these general headings:

• Geology and soils;

• Land use;

• Water resources, fisheries, and wetlands;

• Cultural resources;

• Vegetation and wildlife;

• Air quality and noise;

• Endangered and threatened species; and

• Public safety.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before an application is filed with the FERC. As part of our pre-filing review, we have contacted federal and state agencies to discuss their involvement in the scoping process and the preparation of the EA. Representatives from the FERC also participated in public open houses sponsored by Sawgrass in the project area in July 2010, to explain the environmental review process to interested stakeholders.

Our independent analysis of the issues will be presented in the EA. The EA will be published and mailed to the entities on our mailing list (see discussion on how to remain on our list under Environmental Mailing List below). A 30-day comment period will be allotted for review of the EA. We will consider all comments on the EA before we make our recommendations to the Commission. To ensure your comments are considered, please carefully follow the instructions in the Public Participation section on page 5.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice.

Consultations Under Section 106 of the National Historic Preservation Act

In accordance with the Advisory Council on Historic Preservation's implementing regulations for section 106 of the National Historic Preservation Act, we used our original notice, issued August 6, 2010, to initiate consultation with the Louisiana State Historic Preservation Office (SHPO), and to solicit its views and those of other government agencies, interested Indian tribes, and the public on the project's potential effects on historic properties.³ We will define the project-specific Area of Potential Effects (APE) in consultation with the SHPO as the project is further developed. On natural gas facility projects, the APE at a minimum encompasses all areas subject to ground disturbance (examples include construction right-of-way, contractor/pipe storage yards, compressor stations, and access roads). Our EA for this project will document our findings on the impacts on historic properties and summarize the status of consultations under section 106.

³ The Advisory Council on Historic Preservation's regulations are at Title 36, Code of Federal Regulations, Part 800. Historic properties are defined in those regulations as any prehistoric or historic district, site, building, structure, or object included in or eligible for inclusion in the National Register for Historic Places.

Public Participation

You can make a difference by providing us with your specific comments or concerns about the project. Your comments should focus on the potential environmental effects, reasonable alternatives, and measures to avoid or lessen environmental impacts. The more specific your comments, the more useful they will be. If you previously submitted comments in response to the original notice, you do not need to re-submit those comments. Your comments will be considered in our environmental analysis. To ensure that your comments are timely and properly recorded, please send your comments so that they will be received in Washington, DC on or before June 6, 2011.

For your convenience, there are three methods you can use to submit your comments to the Commission. In all instances, please reference the project docket number (PF10-20-000) with your submission. The Commission encourages electronic filing of comments and has expert eFiling staff available to assist you at (202) 502-8258 or efiling@ferc.gov.

(1) You may file your comments electronically by using the eComment feature, which is located on the Commission's Web site at http://www.ferc.gov under the link to Documents and Filings. An eComment is an easy method for interested persons to submit brief, text-only comments on a project;

(2) You may file your comments electronically by using the eFiling feature, which is located on the Commission's Web site at http;//www.ferc.gov under the link to Documents and Filings. With eFiling you can provide comments in a variety of formats by attaching them as a file with your submission. New eFiling users must first create an account by clicking on “eRegister.” You will be asked to select the type of filing you are making. A comment on a particular project is considered a “Comment on a Filing”; or

(3) You may file a paper copy of your comments at the following address: Kimberly D. Bose, Secretary, Federal Energy Regulatory Commission, 888 First Street, NE., Room 1A, Washington, DC 20426.

Environmental Mailing List

The environmental mailing list includes federal, state, and local government representatives and agencies; elected officials; environmental and public interest groups; Native American Tribes; other interested parties; local libraries and newspapers; and anyone who submits comments on the project. This list also includes all affected landowners (as defined in the Commission's regulations) who are potential right-of-way grantors, whose property may be used temporarily for project purposes, who own homes within certain distances of aboveground facilities, and those that would no longer be affected by the revised pipeline route and second compressor station. We will update the environmental mailing list as the analysis proceeds to ensure that we send the information related to this environmental review to all individuals, organizations, and government entities interested in and/or potentially affected by the planned project. If you previously returned an Information Request from the initial notice or submitted a comment on the project, you are and will remain on our mailing list.

Copies of the EA will be sent to the environmental mailing list for public review and comment. If you would prefer to receive a paper copy of the document instead of the CD version or would like to remove your name from the mailing list, please return the attached Information Request (appendix 2).

Becoming an Intervenor

Once Sawgrass files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's Web site. Please note that the Commission will not accept requests for intervenor status at this time. You must wait until a formal application for the project is filed with the Commission.

Additional Information

Additional information about the project is available from the Commission's Office of External Affairs, at (866) 208-FERC, or on the FERC Web site (http://www.ferc.gov) using the eLibrary link. Click on the eLibrary link, click on “General Search” and enter the docket number, excluding the last three digits in the Docket Number field (i.e., PF10-20). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to http://www.ferc.gov/esubscribenow.htm.

Public meetings or site visits will be posted on the Commission's calendar located at http://www.ferc.gov/EventCalendar/EventsList.aspx along with other related information.

Finally, to request additional information on the project or to provide comments directly to the project sponsor, you can contact Sawgrass directly by calling toll free at 877-309-8624. Also, Sawgrass has established a Web site at http://www.sawgrassgas.com. The Web site includes a description of the project, an overview map of the planned facilities, and links to related documents. Sawgrass will update the Web site as the environmental review of the project proceeds.

Dated: May 6, 2011.
Kimberly D. Bose,
Secretary.

[FR Doc. 2011-11737 Filed 5-12-11; 8:45 am]

BILLING CODE 6717-01-P